DEPARTMENT OF ENERGY

Federal Energy Regulatory Commission

[Project No. 12693-001]

Sutton Hydroelectric Company, LLC; Notice of Intent To File License Application, Filing of Pre-Application Document, Commencement of Licensing Proceeding, Scoping Meetings, Solicitation of Comments on the Pad and Scoping Document, and Identification of Issues and Associated Study Requests

April 7, 2008.

a. Type of Filing: Notice of Intent to File License Application for an Original License and Commencing Licensing Proceeding.

b. Project No.: 12693-001.

c. Date Filed: February 6, 2008.

d. Submitted By: Sutton Hydroelectric Company, LLC.

e. Name of Project: Sutton Hydroelectric Project.

f. Location: On the Elk River, in Braxton County, West Virginia. The project would occupy federal lands administered by the U.S. Army Corps of Engineers.

g. Filed Pursuant to: 18 CFR Part 5 of the Commission's Regulations.

h. Potential Applicant Contact: Ken Kemp, Project Manager, Sutton Hydroelectric Company LLC, Brookfield Power, 225 Greenfield Parkway, Suite 201, Liverpool, New York 13088, (315) 413-2769.

i. FERC Contact: Timothy Konnert, timothy.konnert@ferc.gov, (202) 502-6359.

j. We are asking Federal, State, local, and tribal agencies with jurisdiction and/or special expertise with respect to environmental issues to cooperate with us in the preparation of the environmental document. Agencies who would like to request cooperating status should follow the instructions for filing comments described in paragraph o., below. Cooperating agencies should note the Commission's policy that agencies that cooperate in the preparation of the environmental document cannot also intervene. See, 94 FERC ¶ 61,076 (2001).

k. With this notice, we are initiating informal consultation with: (a) The U.S. Fish and Wildlife Service and/or NOAA Fisheries under section 7 of the Endangered Species Act and the joint agency regulations thereunder at 50 CFR, Part 402; and (b) the State Historic Preservation Officer, as required by section 106, National Historical Preservation Act, and the implementing regulations of the Advisory Council on Historic Preservation at 36 CFR 800.2.

l. With this notice, we are designating Sutton Hydroelectric Company, LLC as the Commission's non-federal representative for carrying out informal consultation, pursuant to section 7 of the Endangered Species Act and section 106 of the National Historic Preservation Act.

m. Sutton Hydroelectric Company, LLC filed a Pre-Application Document (PAD; including a proposed process plan and schedule) with the Commission, pursuant to 18 CFR 5.6 of the Commission's regulations. The Commission issued the Scoping Document for the proposed Sutton Project on April 7, 2008.

n. A copy of the PAD and the scoping document are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

o. With this notice, we are setting the effective date for the commencement of the licensing proceeding as April 7, 2008, and soliciting comments on the PAD and the scoping document, as well as study requests. All comments on the PAD and the scoping document, and study requests should be sent to the address above in paragraph h. In addition, all comments on the PAD and the scoping document, study requests, requests for cooperating agency status, and all communications to and from Commission staff related to the merits of the potential application (original and eight copies) must be filed with the Commission at the following address: Kimberly D. Bose, Secretary, Federal Energy Regulatory Commission, 888 First Street, NE., Washington, DC 20426. All filings with the Commission must include on the first page, the project name (Sutton Project) and number (P-12693-001), and bear the heading “Comments on Pre-Application Document,” “Study Requests,” “Comments on Scoping Document,” “Request for Cooperating Agency Status,” or “Communications to and from Commission Staff.” Any individual or entity interested in submitting study requests, commenting on the PAD or the scoping document, and any agency requesting cooperating status must do so by June 5, 2008.

Comments on the PAD and the scoping document, study requests, requests for cooperating agency status, and other permissible forms of communications with the Commission may be filed electronically via the Internet in lieu of paper. The Commission strongly encourages electronic filings. See 18 CFR 385.2001(a)(1)(iii) and the instructions on the Commission's Web site (http://www.ferc.gov) under the “efiling” link.

p. Although our current intent is to prepare an environmental assessment (EA), there is the possibility that an Environmental Impact Statement (EIS) will be required. Nevertheless, this meeting will satisfy the NEPA scoping requirements, irrespective of whether an EA or EIS is issued by the Commission.

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of the meetings, and to assist staff in identifying particular study needs, as well as the scope of environmental issues to be addressed in the environmental document. The times and locations of these meetings are as follows:¹

¹ Pursuant to § 5.8(b)(3)(VIII) of the Commission's regulations, the scoping meeting and site visit is to be held within 30 days of this notice. However, due to facility unavailability, the scoping meetings have been rescheduled for one week later. To the extent necessary, therefore, § 5.8(b)(3)(VIII) is being waived. The updated process plan in the Commission's scoping document has been modified accordingly.

Evening Scoping Meeting

Date and Time: Monday, May 12, 2008, 6 p.m. (EST),

Location: Days Hotel Flatwoods, 2000 Sutton Lane, Sutton, WV 26601. (304) 765-5055.

Daytime Scoping Meeting

Date and Time: Tuesday, May 13, 2008, 10 a.m. (EST).

Location: Same location.

Sutton Hydroelectric Company, LLC will also host a site visit at the project on May 12, 2008, at 2 p.m. to describe the proposed project. Those wishing to participate will meet at the upstream recreation parking lot next to the dam.

The scoping document, which outlines the issues to be addressed in the environmental document, has been mailed to the individuals and entities on the Commission's mailing list. Copies of the scoping document will be available at the scoping meetings, and may be viewed on the Web at http://www.ferc.gov, using the “eLibrary” link. Follow the directions for accessing information in paragraph n. Depending on the extent of comments received, a revised Scoping Document may or may not be issued.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the PAD in preparation for the scoping meetings. Directions on how to obtain a copy of the PAD and the scoping document are included in item n of this document.

Meeting Procedures

The meetings will be recorded by a stenographer and will become part of the formal record of the Commission proceeding on the project.

Kimberly D. Bose,
Secretary.

[FR Doc. E8-7914 Filed 4-14-08; 8:45 am]

BILLING CODE 6717-01-P